DEPARTMENT OF THE INTERIOR

National Park Service

[NPS-WASO-NAGPRA-10537: 2200-1100-665]

Notice of Intent to Repatriate Cultural Items: Gregg County Historical Museum, Longview, TX

AGENCY: National Park Service, Interior.

ACTION: Notice.

SUMMARY: The Gregg County Historical Museum, in consultation with the appropriate Indian tribe, has determined that the cultural items meet the definition of unassociated funerary objects and repatriation to the Indian tribe stated below may occur if no additional claimants come forward. Representatives of any Indian tribe that believes itself to be culturally affiliated with the cultural items may contact the Gregg County Historical Museum.

DATES: Representatives of any Indian tribe that believes it has a cultural affiliation with the cultural items should contact the Gregg County Historical Museum at the address below by August 10, 2012.

SUPPLEMENTARY INFORMATION: Notice is here given in accordance with the Native American Graves Protection and Repatriation Act (NAGPRA), 25 U.S.C. 3005, of the intent to repatriate cultural items in the possession of the Gregg County Historical Museum that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

History and Description of the Cultural Items

In 2002, the Buddy Calvin Jones collection, a privately held collection of Native American human remains and artifacts, was donated to the Gregg County Historical Museum, Longview, TX. Buddy Calvin Jones was an avocational archeologist who later became a professional archeologist, and excavated numerous sites in eastern Texas. The unassociated funerary objects enumerated below were removed by Mr. Jones or his associates from a site in southwest Arkansas and numerous sites in eastern Texas. The unassociated objects listed below were removed from burial sites, but are not known to relate to specific human remains in the collection. Dates for the sites were determined through an analysis of the objects' decorative styles, characteristic forms, and methods of manufacture.

In 1965, four unassociated funerary objects were removed from burials at the Booker site in southwest Arkansas. The exact location of the site is not specified in notes or records of the collection. The unassociated funerary objects are two ceramic bowls and two ceramic jars. The Booker site dates to A.D. 1400-1680, the Late Caddo period.

In 1968, 106 unassociated funerary objects were removed from burials at the Pipe or Ferguson site (41AN67). The unassociated funerary objects are 1 marine shell gorget and 105 ceramic elbow pipe sherds that had been placed on the chest of the individual in the burial. The Pipe site dates to A.D. 1480-1650, the Late Caddo period.

In 1964, 18 unassociated funerary objects were removed from burials at site GC S-20 (41GG5). The unassociated funerary objects are ceramic vessels. The site GC S-20 dates to A.D. 1200-1450, the Middle Caddo period.

In 1960, two unassociated funerary objects were removed from a burial at the Ware Acres site (41GG31). The unassociated funerary objects are ceramic pipes. The Ware Acres site dates to A.D. 1650-1800, the Historic Caddo period.

In 1963, 18 unassociated funerary objects were removed from burials at the site GC 130 (41GG50). The unassociated funerary objects are 17 ceramic vessels and 1 elbow pipe. The site GC 130 dates to A.D. 1200-1450, the Middle Caddo period.

In 1962, 44 unassociated funerary objects were removed from burials at the Susie Slade site (41HS13). The unassociated funerary objects are ceramic vessels. The Susie Slade site dates to A.D. 1650-1800, the Historic Caddo period.

In 1963 and 1965, 26 unassociated funerary objects were removed from burials at the Brown site (41HS261). The unassociated funerary objects are ceramic vessels. The Brown site dates to A.D. 1650-1790, the Historic Caddo.

Sometime in 1959 and thereafter, six unassociated funerary objects were removed from burials at the C.D. Marsh site (41HS269). The unassociated funerary objects are ceramic vessels. The C.D. Marsh site dates to A.D. 1200-1450, the Middle Caddo period.

In 1961, 42 unassociated funerary objects were removed from burials at the Patton or Peanut Patch site (41HS825). The unassociated funerary objects are 38 ceramic vessels, 3 ceramic pipes, and 1 hematite pigment stone. The Patton site dates to A.D. 1450-1680, the Late Caddo period.

In 1964, 10 unassociated funerary objects were removed from burials at the Younger site (41MR6). The unassociated funerary objects are ceramic vessels. The Younger site dates to A.D. 1200-1450, the Middle Caddo period.

In 1955, 18 unassociated funerary objects were removed from a burial at the Millsey Williamson site (41RK3). The unassociated funerary objects are 15 ceramic vessels, 1 French-made gun flint, 1 piece of sheet brass, and 1 brass musket butt plate. The Millsey Williamson site dates to A.D. 1650-1800, the Historic Caddo period.

In 1956, five unassociated funerary objects were removed from a burial at the Cherokee Lake site (41RK132). The unassociated funerary objects are 4 ceramic vessels and 1 ceramic pipe. The Cherokee Lake site dates to A.D. 1650-1800, the Historic Caddo period.

Sometime between the late 1950s and the mid-1960s, nine unassociated funerary objects were removed from the Sipes site (41RK602). The unassociated funerary objects are ceramic vessels. The Sipes site dates to A.D. 1200-1450, the Middle Caddo period.

In 1962, 14 unassociated funerary objects were removed from burials at the Sam Kaufman site (41RR16). The unassociated funerary objects are ceramic vessels. The Sam Kaufman site dates to A.D. 1450-1680, the Late Caddo period.

In 1960, 34 unassociated funerary objects were removed from burials at the Garvin Final site (41SM77), also known as the Vanderpool site. The unassociated funerary objects are 33 ceramic vessels and 1 ceramic pipe. The Garvin Final site dates to A.D. 1450-1680, the Late Caddo period.

In 1957, 134 unassociated funerary objects were removed from burials at the Henry Spencer site (41UR315). The unassociated funerary objects are 122 ceramic vessels, 8 arrow points (of the Perdiz style), 3 ceramic pipe sherds, and 1 glass bead. The Henry Spencer site dates to A.D. 1450-1680, the Late Caddo period.

In 1958, 110 unassociated funerary objects were removed from burials at the Enis Smith site (41UR317). The unassociated funerary objects are 95 ceramic vessels, 14 arrow points (of the Maud and Talco style), and 1 mass of gray clay pigment. The Enis Smith site dates to A.D. 1450-1680, the Late Caddo period.

In 1954-1955, 57 unassociated funerary objects were removed from burials at the Henry Williams site (41UR318). The unassociated funerary objects are 48 ceramic vessels, 6 arrow points (Talco type), 1 stone bead, and 2 ceramic pipe sherds. The Henry Williams site dates to A.D. 1450-1680, the Late Caddo period.

Sometime between the mid-1950s and the mid-1960s, 20 unassociated funerary objects were removed from burials at the I. P. Starr site (41UR319). The unassociated funerary objects are 11 ceramic vessels and 9 arrow points (Talco, Washita, and Perdiz types). The I. P. Starr site dates to A.D. 1450-1680, the Late Caddo period.

In 1958, 27 unassociated funerary objects were removed from burials at the Taft site (41UR320). The unassociated funerary objects are 26 ceramic vessels and 1 ceramic pipe. The Taft site dates to A.D. 1450-1680, the Late Caddo period.

In 1955-1956 and 1959, 69 unassociated funerary objects were removed from burials at the Frank Smith site (41UR326). The unassociated funerary objects are 68 ceramic vessels and 1 ceramic tubular pipe. The Frank Smith site dates to A.D. 1450-1680, the Late Caddo period.

Sometime between the mid-1950s and the mid-1960s, one unassociated funerary object was removed from a burial at the Frank Smith Refinery site (41UR327). The unassociated funerary object is a single ceramic vessel. The Frank Smith Refinery site dates to A.D. 1450-1680, the Late Caddo period.

Sometime prior to 1954, one unassociated funerary object was removed from burials at the Glade Creek at Oil Lease site GC 23 (no site trinomial has been assigned), in Gregg County, TX. The exact location of this site is not specified in notes or records of the collection. The unassociated funerary object is a ceramic vessel. The Glade Creek at Oil Lease site dates to A.D. 1450-1680, the Late Caddo period.

Sometime between the mid-1950s and the mid-1960s, eight unassociated funerary objects were removed from site GC BCJ (no site trinomial has been assigned), in Gregg County, TX. The exact location of this site is not specified in notes or records of the collection. The unassociated funerary objects are 7 ceramic vessels and 1 mussel shell hoe. The site GC BCJ dates to A.D. 1200-1680, the Middle or Late Caddo periods.

In 1965, 25 unassociated funerary objects were removed from the Hyte or Hiett site (no site trinomial has been assigned), in Gregg County, TX. The exact location of the site is not specified in notes or records of the collection, except that it is on Panther Creek. The unassociated funerary objects are ceramic vessels. The Hyte site dates to A.D. 1450-1680, the Late Caddo period.

In 1963, 20 unassociated funerary objects were removed from burials at the E. Fields site (no site trinomial has been assigned), in Harrison County, TX. The exact location of this site is not specified in notes or records of the collection, except that it is on Hatley Creek. The unassociated funerary objects are ceramic vessels. The E. Fields site dates to A.D. 1200-1680, the Middle and Late Caddo periods.

Sometime between the mid-1950s and the mid-1960s, five unassociated funerary objects were removed from the HC site (no site trinomial has been assigned), in Harrison County, TX. The exact location of this site is not specified in notes or records of the collection. The unassociated funerary objects are 4 ceramic vessels and 1 engraved elbow pipe. The HC site dates to A.D. 1450-1680, the Late Caddo period.

Sometime between the mid-1950s and the mid-1960s, two unassociated funerary objects were removed from burials at the Pearl Smith site, HC 53/60 (no site trinomial has been assigned), in Harrison County, TX. The exact location of this site is not specified in notes or records of the collection. The unassociated funerary objects are ceramic vessels. The Pearl Smith site dates to A.D. 1200-1680, the Middle and Late Caddo periods.

Sometime between the mid-1950s and the mid-1960s, three unassociated funerary objects were removed from burials at the Loftis site (no site trinomial has been assigned), in Harrison County, TX. The exact location of this site is not specified in notes or records of the collection. The unassociated funerary objects are ceramic vessels. The Loftis site dates to A.D. 1450-1680, the Late Caddo period.

Sometime between the mid-1950s and the mid-1960s, three unassociated funerary objects were removed from burials at the Marshall Red Gully site (no site trinomial has been assigned), in Harrison County, TX. The exact location of this site is not specified in notes or records of the collection. The unassociated funerary objects are ceramic vessels. The Marshall Red Gully site dates to A.D. 1200-1450, the Middle Caddo period.

In 1941, two unassociated funerary objects were removed from burials at the Mrs. Martin Farm site (no site trinomial has been assigned), in Harrison County, TX. The exact location of this site is not specified; however, notes and records of the collection indicate that it is near Darco, TX, on the Sabine River. The unassociated funerary objects are ceramic vessels. The Mrs. Martin Farm site dates to A.D. 1200-1680, the Middle and Late Caddo periods.

In 1955, one unassociated funerary object was removed from a burial exposed in a road at the Beckville site (no site trinomial has been assigned) in Panola County, TX. The exact location of this site is not specified; however, notes and records of the collection indicate that it is two miles north of the town of Beckville, TX. The unassociated funerary object is a ceramic vessel. The Beckville site dates to A.D. 1200-1680, the Middle and Late Caddo periods.

In 1940, two unassociated funerary objects were removed from burials at the L. N. Morwell Farm site (no site trinomial has been assigned), in Rusk County, TX. The exact location of this site is not specified; however, notes and records of the collection indicate on Martin Creek and Trammels Trace, an historic road that ran parallel to Martin Creek before crossing the Sabine River. The unassociated funerary objects are ceramic vessels. The L. N. Morwell Farm site dates to A.D. 1200-1450, the Middle Caddo period.

Sometime between the mid-1950s and the mid-1960s, 19 unassociated funerary objects were removed from burials at the FIN site (no site trinomial has been assigned) in Smith County, TX. The exact location of this site is not specified in notes or records of the collection. The unassociated funerary objects are ceramic vessels. The FIN site dates to A.D. 1450-1680, the Late Caddo period.

Sometime between the mid-1950s and the mid-1960s, 20 unassociated funerary objects were removed from burials at the SC site (no site trinomial has been assigned) in Smith County, TX. The unassociated funerary objects are 17 ceramic vessels, 2 ceramic elbow pipes, and 1 ceramic platform pipe. The SC site dates to A.D. 1450-1680, the Late Caddo period.

In 1961, eight unassociated funerary objects were removed from burials at the A. Davis site (no site trinomial has been assigned) in Upshur County, TX. The exact location of this site is not specified in notes or records of the collection, except that it is on property that adjoins the Frank Smith site (41UR326). The unassociated funerary objects are ceramic vessels. The A. Davis site dates to A.D. 1450-1680, the Late Caddo period.

In 1955, 32 unassociated funerary objects were removed from burials at the A SS site (no site trinomial has been assigned) in Upshur County, TX. The exact location of this site is not specified in notes or records of the collection, except that it is believed to be a second cemetery on the same property where the Henry Spencer site (41UR315) is located. The unassociated funerary objects are ceramic vessels. The A SS site dates to A.D. 1450-1680, the Late Caddo period.

Sometime between the mid-1950s and the mid-1960s, one unassociated funerary object was removed from burials at the Byars site (no site trinomial has been assigned) in Smith County, TX. The exact location of this site is not specified in notes or records of the collection, except it is believed to be in the Lake Palestine area and may be the same site as the Byers site. The unassociated funerary object is a ceramic vessel. The Byars site dates to A.D. 1450-1680, the Late Caddo period.

Sometime between the mid-1950s and the mid-1960s, 11 unassociated funerary objects were removed from burials at the BCJ site (no site trinomial has been assigned), possibly in Smith County, TX. The exact location of this site is not specified in notes or records of the collection, except it is believed to be in Smith County based on “SC” markings on several of the vessels. The unassociated funerary objects are ceramic vessels. The BCJ site dates to A.D. 1450-1680, the Late Caddo period.

Sometime between the mid-1950s and the mid-1960s, two unassociated funerary objects were removed from a burial identified as Burial 6 at an unknown site in eastern Texas. The exact location of this site is not specified in notes or records of the collection, although it is likely to be from an Upshur County Caddo cemetery. The unassociated funerary objects are ceramic vessels. The burial dates to A.D. 1450-1680, the Late Caddo period.

Sometime between the mid-1950s and the mid-1960s, two unassociated funerary objects were removed from a burial at the D T Loyd site (41UR8/208), in eastern Texas. The exact location of this site is not specified in notes or records of the collection, although it is likely to be from an Upshur County Caddo cemetery. The unassociated funerary objects are ceramic vessels. The D T Loyd site dates to A.D. 1450-1680, the Late Caddo.

Sometime between the mid-1950s and the mid-1960s, two unassociated funerary objects were removed from burials at the UC site (no trinomial has been assigned) in eastern Texas. The exact location of this site is not specified in notes or records of the collection, although it is likely located in Upshur County, TX. The unassociated funerary objects are ceramic pipes. The UC site dates to A.D. 1450-1680, the Late Caddo period.

Sometime between the mid-1950s and the mid-1960s, 13 unassociated funerary objects were removed from burials identified as Lot 2 in eastern Texas. The exact location of this site is not specified in notes or records of the collection. The unassociated funerary objects are ceramic vessels. The Lot 2 collection dates to A.D. 1450-1680, the Late Caddo period.

Sometime between the mid-1950s and the mid-1960s, 13 unassociated funerary objects were removed from burials identified as Lot 3 in eastern Texas. The exact location of this site is not specified in notes or records of the collection. The unassociated funerary objects are ceramic vessels. The Lot 3 collection dates to A.D. 1450-1680, the Late Caddo period.

Sometime between the mid-1950s and the mid-1960s, 20 unassociated funerary objects were removed from burials identified as Lot 5 in eastern Texas. The exact location of this site is not specified in notes or records of the collection. The unassociated funerary objects are 19 ceramic vessels and 1 blue glass bead. The Lot 5 collection dates to A.D. 1450-1680, the Late-Historic Caddo period.

Sometime between the mid-1950s and the mid-1960s, six unassociated funerary objects were removed from burials at site 170 PS in eastern Texas. The exact location of this site is not specified in notes or records of the collection. The unassociated funerary objects are ceramic vessels. The 170 PS site dates to A.D. 1450-1680, the Late Caddo period.

Sometime between the mid-1950s and the mid-1960s, two unassociated funerary objects were removed from burials at site 170 SS in eastern Texas. The exact location of this site is not specified in notes or records of the collection. The unassociated funerary objects are ceramic vessels. The 170 SS site dates to A.D. 1450-1680, the Late Caddo period.

Sometime between the mid-1950s and the mid-1960s, 18 unassociated funerary objects were removed from burials at site 500 PS BC in eastern Texas. The exact location of this site is not specified in notes or records of the collection. The unassociated funerary objects are ceramic vessels. The 500 PS BC site dates to A.D. 1450-1680, the Late Caddo period.

Sometime between the mid-1950s and the mid-1960s, seven unassociated funerary objects were removed from burials at site 600 P BCJ in eastern Texas. The exact location of this site is not specified in notes or records of the collection. The unassociated funerary objects are ceramic vessels. The 600 P BCJ site dates to A.D. 1450-1680, the Late Caddo period.

Sometime between the mid-1950s and the mid-1960s, five unassociated funerary objects were removed from burials at site 600 S BCJ site in eastern Texas. The exact location of this site is not specified in notes or records of the collection. The unassociated funerary objects are ceramic vessels. The 600 S BCJ site dates to A.D. 1450-1680, the Late Caddo period.

Sometime between the mid-1950s and the mid-1960s, three unassociated funerary objects were removed from burials at site 600 SS in eastern Texas. The exact location of this site is not specified in notes or records of the collection, although it is possible it may be the Brown site (41HS261). The unassociated funerary objects are ceramic vessels. The 600 SS site dates to A.D. 1450-1680, the Late Caddo period.

Sometime between the mid-1950s and the mid-1960s, 25 unassociated funerary objects were removed from burials at site SS in eastern Texas. The exact location of this site is not specified in notes or records of the collection. The unassociated funerary objects are ceramic vessels. The SS site dates to A.D. 1450-1680, the Late Caddo period.

Sometime between the mid-1950s and the mid-1960s, 24 unassociated funerary objects were removed from burials at site TAS-B in eastern Texas. The exact location of this site is not specified in notes or records of the collection, although it may be the Millsey Williamson site (41RK3). The unassociated funerary objects are ceramic vessels. The TAS-B site dates to A.D. 1200-1680, the Middle-Late Caddo period.

Sometime between the mid-1950s and the mid-1960s, 44 unassociated funerary objects were removed from burials at site TAS-C in eastern Texas. The exact location of this site is not specified in notes or records of the collection, although it may be the Millsey Williamson site (41RK3), the Brown site (41HS261), or the Susie Slade site (41HS13). The unassociated funerary objects are ceramic vessels. The TAS-C site dates to A.D. 1450-1680, the Late Caddo period.

Sometime between the mid-1950s and the mid-1960s, 10 unassociated funerary objects were removed from burials at site TAS-S in eastern Texas. The exact location of this site is not specified in notes or records of the collection, although it may be the Brown site (41HS261). The unassociated funerary objects are 8 ceramic vessels, 1 arrow point, and 1 deer antler tool. The TAS-S site dates to A.D. 1450-1680, the Late-Historic Caddo period.

Sometime between the mid-1950s and the mid-1960s, 11 unassociated funerary objects were removed from burials at site TS in eastern Texas. The exact location of this site is not specified in notes or records of the collection. The unassociated funerary objects are 9 ceramic vessels and 2 ceramic pipes. The TS site dates to A.D. 1450-1680, the Late Caddo period.

Sometime between the mid-1950s and the mid-1960s, two unassociated funerary objects were removed from a burial at site MA (no trinomial has been assigned) in eastern Texas. The exact location of this site is not specified in notes or records of the collection, although it is believed to be located in Marion County. The unassociated funerary objects are ceramic vessels. The MA site dates to A.D. 1450-1680, the Late Caddo period.

Sometime between the mid-1950s and the mid-1960s, two unassociated funerary objects were removed from burials at site DAR C (no trinomial has been assigned) in eastern Texas. The exact location of this site is not specified in notes or records of the collection, except it is believed to be located in Harrison County. The unassociated funerary objects are ceramic pipes. The DAR C site dates to A.D. 1450-1680, the Late Caddo period.

Sometime between the mid-1950s and the mid-1960s, one unassociated funerary object was removed from burials at site GC (no trinomial has been assigned) in eastern Texas. The exact location of this site is not specified in notes or records of the collection, except it is believed to be located in Gregg County. The unassociated funerary object is a ceramic pipe. The GC site dates to A.D. 1450-1680, the Late Caddo period.

Sometime between the mid-1950s and the mid-1960s, five unassociated funerary objects were removed from burials at site or sites labeled 1100 AD (no trinomial(s) have been assigned) in eastern Texas. The exact location of this site is not specified in notes or records of the collection. The unassociated funerary objects are ceramic pipes. The 1100 AD site(s) date to A.D. 1450-1680, the Late Caddo period.

Sometime between the mid-1950s and the mid-1960s, two unassociated funerary objects were removed from burials at site or sites labeled 1500 AD (no trinomial(s) have been assigned) in eastern Texas. The exact location of this site is not specified in notes or records of the collection. The unassociated funerary objects are ceramic pipes. The 1500 AD site(s) date to A.D. 1450-1680, the Late Caddo period.

Sometime between the mid-1950s and the mid-1960s, 275 unassociated funerary objects were removed from burials at unknown and unrecorded sites in eastern Texas. These unassociated funerary objects have no available provenience. The unassociated funerary objects are 1 lot of approximately 8,267 glass beads, 250 ceramic vessels, and 24 ceramic pipes. The lot of glass beads are believed to have come from burials at seven Historic Caddo sites, including Ware Acres (41GG31), Kinsloe (41GG3), Cherokee Lake (41RK132), Millsey Williamson (41RK3), C. D. Marsh (41HS269), Susie Slade (41HS13), and Brown (41HS261) which were excavated by Jones for his 1968 Master of Arts thesis (Buddy Calvin Jones, “The Kinsloe Focus: A Study of Seven Historic Caddoan Sites in Northeast Texas,” Master of Arts thesis, Department of Anthropology, University of Oklahoma, Norman, OK, 1968). The ceramic vessels and the ceramic pipes have no available provenience information, but are believed to date to A.D. 1450-1680, the Late Caddo period. The glass beads date from the late 17th century to the early 19th century, the Historic Caddo period.

Determinations made by the Gregg County Historical Museum

Officials of the Gregg County Historical Museum have determined that:

• Pursuant to 25 U.S.C. 3001(3)(B), the 1,431 cultural items described above as unassociated funerary objects are reasonably believed to have been placed with or near individual human remains at the time of death or later as part of the death rite or ceremony and are believed, by a preponderance of the evidence, to have been removed from specific burial sites of Native American individuals.

• Pursuant to 25 U.S.C. 3001(2), there is a relationship of shared group identity that can be reasonably traced between cultural items and the Caddo Nation of Oklahoma.

Additional Requestors and Disposition

Representatives of any other Indian tribe that believes itself to be culturally affiliated with these categories of funerary objects should contact Neina Kennedy, Executive Director, Gregg County Historical Museum, 214 N. Fredonia Street, Longview, TX 75601, telephone (903) 753-5840, before August 10, 2012. Repatriation of these unassociated funerary objects to the Caddo Nation of Oklahoma may proceed after that date if no additional claimants come forward.

The Gregg County Historical Museum is responsible for notifying the Caddo Nation of Oklahoma that this notice has been published.

Dated: June 7, 2012.
David Tarler,
Acting Manager, National NAGPRA Program.

[FR Doc. 2012-16928 Filed 7-10-12; 8:45 am]

BILLING CODE 4312-50-P